DEPARTMENT OF THE INTERIOR

Bureau of Land Management

[NM-910-02-1020-PG]

New Mexico Resource Advisory Council Meeting

AGENCY: The Bureau of Land Management, Department of the Interior.

ACTION: Notice of Council meeting.

SUMMARY: In accordance with the Federal Land Policy and Management Act and the Federal Advisory Committee Act of 1972 (FACA), 5 U.S.C. Appendix 1, The Department of the Interior, Bureau of Land Management (BLM), announces a meeting of the New Mexico Resource Advisory Council (RAC). New Mexico Resource Advisory Council Meetings are planned in conjunction with the representative of the Governor of the State of New Mexico; the Office of the Lieutenant Governor.

DATES: The meeting will be held on January 30, 2002. The meeting will be held at 10:00 a.m. and is not expected to be more than two hours in duration. Some members will be calling in to the meeting via conference phone.

ADDRESSES: The meeting will take place at the Bureau of Land Management State Office, State Director's Conference Room, located at 1474 Rodeo Road, Santa Fe, NM 87505.

Agenda: Members will draft, review and approve a letter to the Secretary of the Interior regarding implementation of the Standards and Guidelines for Grazing. Members of the public are invited and may address the RAC during the meeting.

FOR FURTHER INFORMATION CONTACT: Mary White, New Mexico State Office, Office of External Affairs, Bureau of Land Management, 1474 Rodeo Road, P.O. Box 27115, Santa Fe, New Mexico 87502-01115, Telephone: (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: January 9, 2002.
Richard A. Whitley,
Associate State Director.

[FR Doc. 02-1093 Filed 1-14-02; 8:45 am]

BILLING CODE 4310-FB-P